DEPARTMENT OF HOMELAND SECURITY

Coast Guard

33 CFR Part 117

[Docket No. USCG-2009-0102]

Drawbridge Operation Regulation; Boudreaux Canal, Mile 0.1, Near Chauvin, Terrebonne Parish, LA

AGENCY: Coast Guard, DHS.

ACTION: Notice of temporary deviation from regulations.

SUMMARY: The Commander, Eighth Coast Guard District, has issued a temporary deviation from the regulation governing the operation of the SR 56 Swing Bridge across Boudreaux Canal, mile 0.1, near Chauvin, Terrebonne Parish, Louisiana. The deviation is necessary to replace all the mechanical machinery used to operate the movable span of the bridge. This deviation allows the bridge to remain in the closed-to-navigation position except for the previously approved scheduled opening times to allow for the passage of vessels.

DATES: This deviation is effective from 7 a.m. on March 9, 2009 through 5 p.m. on May 31, 2009.

ADDRESSES: Documents indicated in this preamble as being available in the docket are part of docket USCG-2009-0102 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Eighth Coast Guard District, Bridge Administration Branch, Hale Boggs Federal Building, Room 1313, 500 Poydras Street, New Orleans, Louisiana 70130-3310 between 7 a.m. and 3 p.m., Monday through Friday, except Federal holidays.

FOR FURTHER INFORMATION CONTACT: David Frank, Bridge Administration Branch, telephone (504) 671-2128.

SUPPLEMENTARY INFORMATION: Louisiana Department of Transportation and Development has requested a temporary deviation from the operating schedule of the State Route 56 Swing Bridge across Boudreaux Canal, mile 0.1, near Chauvin, Terrebonne Parish, Louisiana. The closure is necessary to allow for repairs to the bridge. The contractor plans to work 24 hours a day, seven days a week until the work is completed. To facilitate the movement of vessels during the maintenance work, the bridge will open for the passage of vessels daily from 6 a.m. until 7 a.m.; from noon until 1 p.m.; and from 6 p.m. until 7 p.m. Additionally, the bridge will open for the passage of vessels at 10 p.m. and 2 a.m. daily for any vessels standing by at the bridge.

The vertical clearance of the swing bridge in the closed-to-navigation position is 5.2 feet and unlimited in the open-to-navigation position. If for any reason, the contractor is not working during this period, the bridge will be returned to normal operation and must open on signal. If the maintenance work is completed prior to May 31, 2009, the bridge will be returned to normal operation. The bridge owner will keep the Coast Guard informed as to any change in the schedule so that proper notices to mariners may be issued informing the public of changes to the operation of the bridge.

Presently, the bridge opens on signal in accordance with 33 CFR 117.5. This deviation will allow the bridge to remain in the closed-to-navigation position from 7 a.m. on Monday, March 9, 2009 through 5 p.m. on Saturday, May 9, 2009; however, the bridge must open on signal for the passage of vessels from 6 a.m. until 7 a.m.; from noon until 1 p.m. and from 6 p.m. until 7 p.m. daily. Additionally, the bridge must open on signal for any vessels standing by at 10 p.m. and 2 a.m. daily. During the closure periods all the mechanical machinery used for operating the movable span will be changed. Navigation on the waterway consists of tugs with tows, fishing vessels and recreational craft. Due to prior experience and coordination with waterway users it has been determined that this closure will not have a significant effect on these vessels.

In accordance with 33 CFR 117.35(e), the drawbridge must return to its regular operating schedule immediately at the end of the designated time period. This deviation from the operating regulations is authorized under 33 CFR 117.35.

Dated: February 20, 2009.
David M. Frank,
Bridge Administrator.

[FR Doc. E9-5090 Filed 3-10-09; 8:45 am]

BILLING CODE 4910-15-P